DEPARTMENT OF HOMELAND SECURITY

U.S. Customs and Border Protection

Agency Information Collection Activities: Canadian Border Boat Landing Permit (CBP Form I-68)

AGENCY: U.S. Customs and Border Protection, Department of Homeland Security.

ACTION: 30-Day notice and request for comments; Extension of an existing information collection: 1651-0108.

SUMMARY: U.S. Customs and Border Protection (CBP) of the Department of Homeland Security will be submitting the following information collection request to the Office of Management and Budget (OMB) for review and approval in accordance with the Paperwork Reduction Act: Canadian Border Boat Landing Permit (CBP Form I-68). This is a proposed extension of an information collection that was previously approved. CBP is proposing that this information collection be extended with no change to the information collected. This document is published to obtain comments from the public and affected agencies. This proposed information collection was previously published in the Federal Register (75 FR 61508) on October 5, 2010, allowing for a 60-day comment period. No comments were received. This notice allows for an additional 30 days for public comments. This process is conducted in accordance with 5 CFR 1320.10.

DATES: Written comments should be received on or before February 17, 2011.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

SUPPLEMENTARY INFORMATION: U.S. Customs and Border Protection (CBP) encourages the general public and affected Federal agencies to submit written comments and suggestions on proposed and/or continuing information collection requests pursuant to the Paperwork Reduction Act (Pub. L. 104-13). Your comments should address one of the following four points:

(1) Evaluate whether the proposed collection of information is necessary for the proper performance of the functions of the agency/component, including whether the information will have practical utility;

(2) Evaluate the accuracy of the agency's/component's estimate of the burden of the proposed collection of information, including the validity of the methodology and assumptions used;

(3) Enhance the quality, utility, and clarity of the information to be collected; and

(4) Minimize the burden of the collections of information on those who are to respond, including the use of appropriate automated, electronic, mechanical, or other technological techniques or other forms of information.

Title: Canadian Border Boat Landing Permit.

OMB Number: 1651-0108.

Form Number: CBP Form I-68.

Abstract: The Canadian Border Boat Landing Permit (CBP Form I-68) allows participants entering the United States along the northern border by small pleasure boats less than 5 tons to telephonically report their arrival without having to appear in person for an inspection by a CBP officer. United States citizens, Lawful Permanent Residents of the United States, Canadian citizens, Landed Commonwealth Residents of Canada, and Landed Residents of Canada who are nationals of Visa Waiver Program countries listed in 8 CFR 217.2(a) are eligible to participate.

The information collected on CBP Form I-68 allows people who enter the United States from Canada by small pleasure boats to be inspected only once during the boating season, rather than each time they make an entry. This information collection is provided for by 8 CFR 235.1(e) and Section 235 of Immigration and Nationality Act. CBP Form I-68 is accessible at http://forms.cbp.gov/pdf/CBP_Form_I68.pdf

Current Actions: This submission is being made to extend the expiration date with no change to the burden hours or to the information being collected.

Type of Review: Extension (without change).

Affected Public: Individuals or households.

Estimated Number of Respondents: 68,000.

Estimated Time per Respondent: 10 minutes.

Estimated Total Annual Burden Hours: 11,288.

Estimated Annual Cost: $1,088,000.

If additional information is required contact: Tracey Denning, U.S. Customs and Border Protection, Regulations and Rulings, Office of International Trade, 799 9th Street, NW., 5th Floor, Washington, DC 20229-1177, at (202) 325-0265.

Dated: January 11, 2011.
Tracey Denning,
Agency Clearance Officer, U.S. Customs and Border Protection.

[FR Doc. 2011-842 Filed 1-14-11; 8:45 am]

BILLING CODE 9111-14-P